DEPARTMENT OF HEALTH AND HUMAN SERVICES

Agency for Healthcare Research and Quality

Meeting of the AHRQ National Advisory Council for Healthcare Research and Quality Subcommittee on Quality Measures for Children's Healthcare in Medicaid and Children's Health Insurance Programs

AGENCY: Agency for Healthcare Research and Quality (AHRQ), HHS.

ACTION: Notice of public meeting.

SUMMARY: In accordance with section 10(a) of the Federal Advisory Committee Act, 5 U.S.C. App. 2, this notice announces a meeting of the National Advisory Council for Healthcare Research and Quality Subcommittee on Quality Measures for Children's Healthcare in Medicaid and Children's Health Insurance Programs (CHIP).

DATES: The meeting will be held on Thursday, September 17, 2009, from 8 a.m. to 5 p.m. and Friday, September 18, 2009 from 8 a.m. to 12 p.m.

ADDRESSES: Holiday Inn Capitol, 550 C Street, SW., Washington, DC 20024.

FOR FURTHER INFORMATION CONTACT: Padmini Jagadish, Public Health Analyst at the Agency for Healthcare Research and Quality, 540 Gaither Road, Rockville, Maryland 20850, (301) 427-1927. For press-related information, please contact Karen Migdail at (301) 427-1855.

If sign language interpretation or other reasonable accommodation for a disability is needed, please contact Mr. Michael Chew, Director, Office of Equal Employment Opportunity Program, Program Support Center, on (301) 443-1144, no later than August 31, 2009.

SUPPLEMENTARY INFORMATION:

I. Purpose

The National Advisory Council for Healthcare Research and Quality was established in accordance with Section 921 (now Section 931) of the Public Health Service Act, 42 U.S.C. 299c. In accordance with its statutory mandate, the Council is to advise the Secretary of the Department of Health and Human Services and the Director, Agency for Healthcare Research and Quality (AHRQ), on matters related to actions of AHRQ to enhance the quality, and improve the outcomes, of health care services; improve access to such services through scientific research; and promote improvements in clinical practice and in the organization, financing, and delivery of health care services.

The Council is composed of members of the public, appointed by the Secretary, and Federal ex-officio members.

AHRQ's National Advisory Council on Healthcare Research and Quality (NAC) has established a Subcommittee on Quality Measures for Children's Healthcare in Medicaid and Children's Health Insurance Programs (CHIP). The Subcommittee was created to provide advice to the NAC for consideration and transmission to AHRQ as AHRQ undertakes responsibilities in the identification of an initial core quality measure set for use by Medicaid and CHIP programs for children's healthcare. A roster of the Subcommittee members is available at http://www.ahrg.gov/chip/chipraact.htm. The first meeting of the subcommittee took place on July 22 and 23, 2009. The September meeting is the second working meeting that will be held as a part of this effort.

The identification of an initial core measure set for public comment is required under Public Law 111-3, the Child Health Insurance Program Reauthorization Act (CHIPRA). The initial core measure set is required to be posted for public comment by January 1, 2010. CHIPRA reauthorized the Child Health Insurance Program (CHIP) originally established in 1997, and in Title IV of the law, added a number of new provisions designed to improve health care quality and outcomes for children. AHRQ is working closely with the Centers for Medicare and Medicaid Services (CMS) in implementing these provisions. For more information about AHRQ's role in carrying out the quality provisions of CHIPRA, see http://www.ahrg.gov/chip/chipraact.htm.

II. Agenda

On Thursday, September 17, 2009, the Subcommittee meeting will convene at 8 a.m., with the call to order by the Subcommittee Co-Chairs. The meeting will review results of the second stage of the Delphi Process of scoring measures for validity, feasibility, and importance, and proceed to select an initial core set of children's healthcare quality measures to recommend to the AHRQ National Advisory Committee (NAC). This process was started in the first subcommittee meeting, held July 22-23, 2009.

A more specific proposed agenda will be available before the meeting from Padmini Jagadish, Agency for Healthcare Research and Quality, 540 Gaither Road, Rockville, Maryland 20850, (301) 427-1927, e-mail address Padmini.Jagadish@ahrq.hhs.gov. The final agenda, including the time for public comment during the meeting, will be available on the AHRQ Web site at http://www.ahrg.gov/chip/chipraact.htm no later than September 10, 2009. This AHRQ Web site links to an email address that can be used to submit comments on CHIPRA quality measure development as the process of identifying the initial core measure set proceeds. Subcommittee meeting minutes will be available within 21 business days after the meeting.

Dated: August 13, 2009.
Carolyn M. Clancy,
Director.

[FR Doc. E9-20020 Filed 8-19-09; 8:45 am]

BILLING CODE 4160-90-M